ENVIRONMENTAL PROTECTION AGENCY

40 CFR Part 52

[TX-107-2-7424b; FRL-6567-6]

Approval and Promulgation of Implementation Plans; Texas; Control of Air Pollution From Volatile Organic Compounds, Vent Gas Control and Offset Lithographic Printing Rules

AGENCY: Environmental Protection Agency (EPA).

ACTION: Proposed rule.

SUMMARY: The EPA is taking action on revisions to the Texas State Implementation Plan (SIP). This document covers three separate actions: Approving the Revisions to the 30 TAC, Chapter 115, Control of Air Pollution from Volatile Organic Compounds (VOC), Subchapter B, Division 2, Vent Gas Control (bakery oven emissions) rule as meeting our Reasonably Available Control Technology (RACT) requirements for controlling the VOC emission from such major sources in the Dallas/For Worth (D/FW) ozone nonattainment area; converting EPA's limited approval of certain sections in 30 TAC, Chapter 115, Control of Air Pollution from VOC, Subchapter B, Division 2, Vent Gas Control (bakery oven emissions) rule to a full approval as meeting the RACT requirements for controlling the VOC emission from such major sources in the D/FW ozone nonattainment area. By this approval action, we are saying that Texas will be implementing the RACT for VOC emissions resulting from operation of the bakeries in the D/FW area; and approving that the revisions to the 30 TAC, Chapter 115, Control of Air Pollution from Volatile Organic Compounds (VOC), Subchapter E, Division 4, Offset Lithography Printing as meeting our RACT requirements for controlling the VOC emission from such major sources in the D/FW ozone nonattainment area. By this approval action, we are saying that Texas will be implementing the RACT for VOC emissions resulting from operation of the offset lithography printing sources in the D/FW area.

The EPA is approving these revisions to regulate emissions of VOCs as meeting RACT in accordance with the requirements of the Federal Clean Air Act.

In the “Rules and Regulations” section of this Federal Register, EPA is approving the State's SIP revision as a direct final rule without prior proposal because the EPA views this as a noncontroversial revision and anticipates no adverse comment. The EPA has explained its reasons for this approval in the preamble to the direct final rule. If EPA receives no relevant adverse comments, the EPA will not take further action on this proposed rule. If EPA receives relevant adverse comment, EPA will withdraw the direct final rule and it will not take effect. The EPA will address all public comments in a subsequent final rule based on this proposed rule. The EPA will not institute a second comment period on this action. Any parties interested in commenting must do so at this time.

DATES: Written comments must be received by May 8, 2000.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Mr. Alan Shar, P.E., Air Planning Section (6PD-L), EPA Region 6, 1445 Ross Avenue, Dallas, Texas 75202-2733, telephone (214) 665-6691.

SUPPLEMENTARY INFORMATION: This document concerns Control of Air Pollution from Vent Gas Control (bakery oven emissions) and offset lithographic printing rules in the D/FW ozone nonattainment area. For further information, please see the information provided in the direct final action that is located in the “Rules and Regulations” section of this Federal Register publication.

Authority: 42 U.S.C. 7401 et seq.

Dated: March 21, 2000.
Lynda F. Carroll,
Acting Regional Administrator, Region 6.

[FR Doc. 00-7733 Filed 4-5-00; 8:45 am]

BILLING CODE 6560-50-U